DEPARTMENT OF DEFENSE

GENERAL SERVICES ADMINISTRATION

NATIONAL AERONAUTICS AND SPACE ADMINISTRATION

48 CFR Parts 1, 3, 12, and 52

[FAR Case 2013-022, Docket No. FAR-2013-0022, Sequence No. 1]

RIN 9000-AM69

Federal Acquisition Regulation: Extension of Limitations on Contractor Employee Personal Conflicts of Interest

AGENCY: Department of Defense (DoD), General Services Administration (GSA), and National Aeronautics and Space Administration (NASA).

ACTION: Proposed rule; withdrawal.

SUMMARY: DoD, GSA, and NASA are withdrawing the proposed rule to amend the Federal Acquisition Regulation (FAR) titled: Extension of Limitations on Contractor Employee Personal Conflicts of Interest. The decision not to proceed with a final rule was made on the basis that the requirements of the underlying statute that directed consideration of a FAR change have been met. Accordingly, this proposed rule is withdrawn, and the FAR case is closed.

DATES: The proposed rule published on April 2, 2014, at 79 FR 18503 is withdrawn as of March 19, 2021.

FOR FURTHER INFORMATION CONTACT: Mahruba Uddowla, Procurement Analyst, at 703-605-2868 or mahruba.uddowla@gsa.gov. Please cite “FAR Case 2013-022”.

SUPPLEMENTARY INFORMATION: On April 2, 2014, DoD, GSA, and NASA proposed to amend the FAR to implement a recommendation made by DoD pursuant to section 829 of the National Defense Authorization Act for Fiscal Year 2013 (79 FR 18503). The proposed rule considered extending the limitations at FAR subpart 3.11 on contractor employee personal conflicts of interest to individuals performing any function that is closely associated with inherently governmental functions and certain individuals performing contracts for personal services.

A decision was made not to proceed with finalization of the proposed rule. Because of the passage of time since the proposed rule was issued in 2014, and the fact that section 829 did not require any changes to the FAR, the FAR Council believes further consideration of any amendments to the FAR related to limitations on contractor employee personal conflicts of interest should be accomplished under a new FAR case. Accordingly, the proposed rule published at 79 FR 18503 on April 2, 2014, is withdrawn and FAR Case 2013-022 is closed.

List of Subjects in 48 CFR Parts 1, 3, 12, and 52

Government procurement.

William F. Clark,
Director, Office of Government-wide Acquisition Policy, Office of Acquisition Policy, Office of Government-wide Policy.

[FR Doc. 2021-05660 Filed 3-18-21; 8:45 am]

BILLING CODE 6820-EP-P